DEPARTMENT OF THE INTERIOR

National Park Service

Notice of Inventory Completion: Springfield Science Museum, Springfield, MA; Correction

AGENCY: National Park Service, Interior.

ACTION: Notice; correction

Notice is here given in accordance with the Native American Graves Protection and Repatriation Act (NAGPRA), 25 U.S.C. 3003, of the completion of an inventory of human remains and associated funerary objects in the possession of the Springfield Science Museum, Springfield, MA. The human remains and associated funerary objects were removed from Hampden and Hampshire Counties, MA, and from unknown locations in western Massachusetts.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects information in a notice of inventory completion published in the Federal Register on August 20, 2003 (FR Doc. 03-21336, pages 50184-50186). This notice adds the Narragansett Indian Tribe of Rhode Island and the Wampanoag Tribe of Gay Head (Aquinnah) of Massachusetts to the Native American tribes that were consulted, to whom a relationship of shared group identity can be traced, to whom repatriation may proceed, and who shall be notified that the notice was published.

Paragraph 3 of the August 20, 2003, notice is corrected by substituting the following paragraph:

A detailed assessment of the human remains was made by Springfield Science Museum professional staff in consultation with representatives of the Narragansett Indian Tribe of Rhode Island; Stockbridge Munsee Community, Wisconsin; and the Wampanoag Tribe of Gay Head (Aquinnah) of Massachusetts.

The last four paragraphs (paragraphs 47-50) of the August 20, 2003, notice are corrected by substituting the following paragraphs:

Based on historic documentation, geographic location of the burials, and oral history, the human remains and associated funerary objects described above are most likely to be culturally affiliated with the present-day Narragansett Indian Tribe of Rhode Island; Stockbridge Munsee Community, Wisconsin; and the Wampanoag Tribe of Gay Head (Aquinnah) of Massachusetts. Oral tradition and historic evidence indicate that the Narragansetts were involved in wampum production and distribution in western Massachusetts during the Contact and Early Historic periods. Historic evidence indicates that the Narragansetts engaged in battles in western Massachusetts during King Philip's War (1676-1677). All of the western Massachusetts sites described above lie within the known homeland of the Mohican Indians. Occupation of the area by the Mohican Indians is well documented for the Historic period, and Mohican oral history maintains that there is also prehistoric occupation in the Hudson and Connecticut River Valleys. The Mohican Indians are represented today by the Stockbridge Munsee Community, Wisconsin. Oral tradition indicates that the Connecticut River Valley was considered a sacred area by the Wampanoag Tribe of Gay Head. Historic evidence indicates that the Wampanoag Tribe of Gay Head engaged in battles in western Massachusetts during King Philip's War (1667-1677).

Officials of the Springfield Science Museum have determined that, pursuant to 25 U.S.C. 3001 (9-10), the human remains described above represent the physical remains of 84 individuals of Native American ancestry. Officials of the Springfield Science Museum also have determined that, pursuant to 25 U.S.C. 3001 (3)(A), the 321 objects listed above are reasonably believed to have been placed with or near individual human remains at the time of death or later as part of the death rite or ceremony. Lastly, officials of the Springfield Science Museum have determined that, pursuant to 25 U.S.C. 3001 (2), there is a relationship of shared group identity that can be reasonably traced between the Native American human remains and associated funerary objects and the Narragansett Indian Tribe of Rhode Island; Stockbridge Munsee Community, Wisconsin; and the Wampanoag Tribe of Gay Head (Aquinnah) of Massachusetts.

Representatives of any other Indian tribe that believes itself to be culturally affiliated with the human remains and associated funerary objects should contact David Stier, Director, Springfield Science Museum, 220 State Street, Springfield, MA 01103, telephone (413) 263- 6800, extension 321, before October 14, 2004. Repatriation of the human remains and associated funerary objects to the Narragansett Indian Tribe of Rhode Island; Stockbridge Munsee Community, Wisconsin; and the Wampanoag Tribe of Gay Head (Aquinnah) of Massachusetts may proceed after that date if no additional claimants come forward.

The Springfield Science Museum is responsible for notifying the Narragansett Indian Tribe of Rhode Island; Stockbridge Munsee Community, Wisconsin; and the Wampanoag Tribe of Gay Head (Aquinnah) of Massachusetts that this notice has been published.

Dated: August 12, 2004.
Sherry Hutt,
Manager, National NAGPRA Program.

[FR Doc. 04-20652 Filed 9-13-04; 8:45 am]

BILLING CODE 4312-50-S